OFFICE OF NATIONAL DRUG CONTROL POLICY

Paperwork Reduction Act; 30-Day Notice

AGENCY: Office of National Drug Control Policy.

The Office of National Drug Control Policy (ONDCP) proposes the collection of information concerning student drug testing. There was one request for the survey instrument from the New York State Office of Alcoholism and Substance Abuse Services, Bureau of Grants Management and Federal Affairs. ONDCP invites interested persons to submit comments to the Office of Management and Budget (OMB) regarding any aspect of this proposed effort.

Type of Collection: Survey of State Educational Directors.

Title of Information Collection: Federal Safe and Drug Free Schools State formula grant (Title IV) resources supporting Student Drug Testing Programs in the Nation's schools.

Frequency: Annually by fiscal year.

Affected Public: Instrumentalities of state, local, and tribal educational entities.

Estimated Burden: Minimal since State Education Agencies have pre-established reporting relationships with Local Education Agencies (LEAs). LEAs receiving funds under Title IV must report on the services and activities supported by these funds.

Send comments to John Kraemer, OMB Desk Officer for ONDCP, New Executive Office Building, Room 10235, Washington, DC 20503. Comments must be received within 30 days. Additional information may be requested by facsimile transmission to (202) 395-5276, attention: Meredith DeFraites or by e-mail to Meredith_L._DeFraites@ondcp.eop.gov.

Signed in Washington, DC, on March 23, 2008.
Daniel R. Petersen,
Assistant General Counsel.

[FR Doc. E8-6604 Filed 3-31-08; 8:45 am]

BILLING CODE 3180-02-P